ENVIRONMENTAL PROTECTION AGENCY

[EPA-HQ-OPPT-2010-0800; FRL-8847-7

Certain New Chemicals; Receipt and Status Information

AGENCY: Environmental Protection Agency (EPA).

ACTION: Notice.

SUMMARY: Section 5 of the Toxic Substances Control Act (TSCA) requires any person who intends to manufacture (defined by statute to include import) a new chemical (i.e., a chemical not on the TSCA Inventory) to notify EPA and comply with the statutory provisions pertaining to the manufacture of new chemicals. Under sections 5(d)(2) and 5(d)(3) of TSCA, EPA is required to publish a notice of receipt of a premanufacture notice (PMN) or an application for a test marketing exemption (TME), and to publish periodic status reports on the chemicals under review and the receipt of notices of commencement to manufacture those chemicals. This status report, which covers the period from July 30, 2010 to August 31, 2010, consists of the PMNs and TME, both pending or expired, and the notices of commencement to manufacture a new chemical that the Agency has received under TSCA section 5 during this time period.

DATES: Comments identified by the specific PMN number or TME number, must be received on or before October 22, 2010.

ADDRESSES: Submit your comments, identified by docket identification (ID) number EPA-HQ-OPPT-2010-0800, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2010-[insert Docket ID no.]. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2010-0800. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov website is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, will be publicly available only in hard copy. Publicly available docket materials are available electronically at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Bernice Mudd, Information Management Division 7407M, Office of Chemical Safety Pollution Prevention, Environmental Protection Agency, 1200 Pennsylvania Ave., NW., Washington, DC 20460-0001; telephone number: (202) 564-8951; fax number: (202) 564-8955; e-mail address: [mudd.bernice@epa.gov.

For general information contact: The TSCA-Hotline, ABVI-Goodwill, 422 South Clinton Ave., Rochester, NY 14620; telephone number: (202) 554-1404; e-mail address: TSCA-Hotline@epa.gov.

SUPPLEMENTARY INFORMATION:

I. General Information

A. Does this Action Apply to Me?

This action is directed to the public in general. As such, the Agency has not attempted to describe the specific entities that this action may apply to. Although others may be affected, this action applies directly to the submitter of the premanufacture notices addressed in the action. If you have any questions regarding the applicability of this action to a particular entity, consult the person listed under FOR FURTHER INFORMATION CONTACT.

B. What Should I Consider as I Prepare My Comments for EPA?

1. Submitting CBI. Do not submit this information to EPA through regulations.gov or e-mail. Clearly mark the part or all of the information that you claim to be CBI. For CBI information in a disk or CD-ROM that you mail to EPA, mark the outside of the disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Why is EPA Taking this Action?

Section 5 of TSCA requires any person who intends to manufacture (defined by statute to include import) a new chemical (i.e., a chemical not on the TSCA Inventory to notify EPA and comply with the statutory provisions pertaining to the manufacture of new chemicals. Under sections 5(d)(2) and 5(d)(3) of TSCA, EPA is required to publish a notice of receipt of a PMN or an application for a TME and to publish periodic status reports on the chemicals under review and the receipt of notices of commencement to manufacture those chemicals. This status report, which covers the period from July 30, 2010 to August 31, 2010, consists of the PMNs and TME, both pending or expired, and the notices of commencement to manufacture a new chemical that the Agency has received under TSCA section 5 during this time period.

III. Receipt and Status Report for PMNs and TME

This status report identifies the PMNs and TME, both pending or expired, and the notices of commencement to manufacture a new chemical that the Agency has received under TSCA section 5 during this time period. If you are interested in information that is not included in the following tables, you may contact EPA as described in Unit II. to access additional non-CBI information that may be available.

In Table I of this unit, EPA provides the following information (to the extent that such information is not claimed as CBI) on the PMNs received by EPA during this period: the EPA case number assigned to the PMN; the date the PMN was received by EPA; the projected end date for EPA's review of the PMN; the submitting manufacturer; the potential uses identified by the manufacturer in the PMN; and the chemical identity.

I. 62 Premanufacture Notices Received From: 7/30/10 to 8/31/10
Case No. | Received Date | Projected Notice End Date | Manufacturer/Importer | Use | Chemical
P-10-0477 | 07/30/10 | 10/27/10 | 3M | (S) Filler in epoxy resin | (G) Surface modified ceramic particle
P-10-0478 | 08/03/10 | 10/31/10 | CBI | (G) Moisture curing polyurethane adhesive | (G) Isocyanate terminated urethane polymer
P-10-0479 | 08/03/10 | 10/31/10 | CBI | (G) Moisture curing polyurethane adhesive | (G) Isocyanate terminated urethane polymer
P-10-0480 | 08/03/10 | 10/31/10 | CBI | (G) Moisture curing polyurethane adhesive | (G) Isocyanate terminated urethane polymer
P-10-0481 | 08/03/10 | 10/31/10 | CBI | (G) Moisture curing polyurethane adhesive | (G) Isocyanate terminated urethane polymer
P-10-0482 | 08/03/10 | 10/31/10 | CBI | (G) Moisture curing polyurethane adhesive | (G) Isocyanate terminated urethane polymer
P-10-0483 | 08/03/10 | 10/31/10 | CBI | (G) Moisture curing polyurethane adhesive | (G) Isocyanate terminated urethane polymer
P-10-0484 | 07/30/10 | 10/27/10 | Elementis Specialties, Inc. | (G) Dispersant | (G) Esterified polymer of styrene, maleic anhydride and ethenylbenzene, potassium salt
P-10-0485 | 07/30/10 | 10/27/10 | CBI | (G) Open, non-dispersive textile finish | (G) Modified fluorinated acrylate
P-10-0486 | 07/30/10 | 10/27/10 | Sasol North America | (S) Enhanced oil recovery - injected downhole to spur oil production | (S) Poly[oxy(methyl-1,2-ethanediyl)], .alpha.-sulfo-.omega.-hydroxy-,C12-13-branched and linear alkyl ethers, sodium salts
P-10-0487 | 07/30/10 | 10/27/10 | Sasol North America | (S) Enhanced oil recovery - injected downhole to spur oil production | (S) Poly[oxy(methyl-1,2-ethanediyl)], .alpha.-sulfo-.omega.-hydroxy-,C14-15-branched and linear alkyl ethers, sodium salts
P-10-0488 | 08/02/10 | 10/30/10 | CBI | (G) Paper coating | (G) Poly(urethane urea)
P-10-0489 | 08/02/10 | 10/30/10 | Honeywell | (S) Intermediate | (G) Pentahalosubstituted alkene
P-10-0490 | 08/03/10 | 10/31/10 | CBI | (S) Hot melt adhesive for bonding different substrates like plastics, metals, wood, packaging materials, and leather | (G) Dimer fatty acid, polymer with tall-oil fatty acid, alkyl diacid and alkyldiamines
P-10-0491 | 08/04/10 | 11/01/10 | GE Water and Process Technologies | (G) Separation coagulant | (G) Amphoteric acrylic polymer
P-10-0492 | 08/05/10 | 11/02/10 | CBI | (G) Polymer additive | (G) Acetoacetonate end capped polyol
P-10-0493 | 08/06/10 | 11/03/10 | CBI | (G) Curable epoxy resin | (G) Bisphenol A epoxy hema phthalate
P-10-0494 | 08/09/10 | 11/06/10 | CBI | (G) Intermediate chemical product | (G) Polyphenol ether
P-10-0495 | 08/10/10 | 11/07/10 | CBI | (G) Coating additive | (G) Poly(oxy-1,2-ethanediyl),.alpha.,-monoalkyl ethers-.omega.-mono(hydrogen maleate)-
P-10-0496 | 08/10/10 | 11/07/10 | CBI | (G) Open, non-dispersive use (additive for coating layer) | (G) Poly acrylate
P-10-0497 | 08/10/10 | 11/07/10 | Firmenich Incorporated | (S) Aroma for use in fragrance mixtures, that in turn are used in perfumes, soaps, cleansers, etc. | (S) 1-cyclohexene-1-propanal, 4,4-dimethyl-
P-10-0498 | 08/10/10 | 11/07/10 | CBI | (G) Latent curing agent for polyurethanes | (S) Dodecanoic acid, 3-[[3-[[[2,2-dimethyl-3-[(1-oxododecyl)oxy]propylidene]amino]methyl]-3,5,5-trimethylcyclohexyl]imino]-2,2-dimethylpropyl ester
P-10-0499 | 08/10/10 | 11/07/10 | CBI | (G) Latent curing agent for poyurethanes | (S) Dodecanoic acid, 1,6-hexanediylbis[nitrilo(2,2-dimethyl-1-propanyl-3-ylidene)] ester
P-10-0500 | 08/11/10 | 11/08/10 | CBI | (G) Material for semi-conductor | (G) Oxybiscarbomonocyclic acid, polymer with oxybis[heteropolycyclic ketone],(alkyl(C=1-4)-substituted bis [alkyl(C=2-5)amine],[halo(haloalkyl(C=1-4)alkylidene]bis [aminocarbomonocyclicalcohol] and [halo(haloalkyl(C=14)alkyidene]bis (hydroxycarbomonocycle)]bis[aminobenzamide],alkyl(C=1-4)ester
P-10-0501 | 08/11/10 | 11/08/10 | Xerox Corporation | (G) Destructive use (site limited intermediate) | (G) Substituted pyridone
P-10-0502 | 08/12/10 | 11/09/10 | Dow Chemical Company | (S) Hardner for epoxy thermoset coating systems | (G) Polymer of formaldehyde, diamine and phenol
P-10-0503 | 08/12/10 | 11/09/10 | Dow Chemical Company | (S) Hardner for epoxy thermoset coating systems | (G) Polymer of formaldehyde, diamine and phenol
P-10-0504 | 08/13/10 | 11/10/10 | ICl-IP America Inc. | (S) Flame retardant on textiles | (G) Phosphoric acid, metal salt
P-10-0505 | 08/13/10 | 11/10/10 | CBI | (G) Component in industrial cleaner | (G) Alkoxylated alkyl alcohol, ester with alknoenedioic acid, alkali metal salt
P-10-0506 | 08/17/10 | 11/14/10 | Coim USA, Inc. | (S) Packaging adhesives | (S) 1,3-benzenedicarboxylic acid, polymer with 2,2-dimethyl-1,3-propanediol, hexanedioic acid and 2,2′-oxybis[ethanol]
P-10-0507 | 08/17/10 | 11/14/10 | Avebe Inc. | (S) Production aid for parent / sizing emulsion for application in paper and paperboard | (S) Starch, oxidized, 2-hydroxy-3-(trimethylammonio)propyl ether, chloride
P-10-0508 | 08/19/10 | 11/16/10 | Emery Oleochemicals LLC | (G) Chemical intermediate | (G) Mixed mono and di carboxylic acids
P-10-0509 | 08/19/10 | 11/16/10 | Emery Oleochemicals LLC | (S) Polyester polyol for polyurethane ridged foam; polyester polyol for polyurethane flexible foam; polyester polyol for polyurethane coatings | (G) Ester polyol, fatty acid ester
P-10-0510 | 08/19/10 | 11/16/10 | Emery Oleochemicals LLC | (S) Polyester polyol for polyurethane ridged foam; polyester polyol for polyurethane flexible foam; polyester polyol for polyurethane coatings | (G) Ester polyol, fatty acid ester
P-10-0511 | 08/19/10 | 11/16/10 | Emery Oleochemicals LLC | (S) Polyester polyol for polyurethane ridged foam; polyester polyol for polyurethane flexible foam; polyester polyol for polyurethane coatings | (G) Ester polyol, fatty acid ester
P-10-0512 | 08/19/10 | 11/16/10 | Emery Oleochemicals LLC | (S) Polyester polyol for polyurethane ridged foam; polyester polyol for polyurethane flexible foam; polyester polyol for polyurethane coatings | (G) Ester polyol, fatty acid ester
P-10-0513 | 08/19/10 | 11/16/10 | Emery Oleochemicals LLC | (S) Polyester polyol for polyurethane ridged foam; polyester polyol for polyurethane flexible foam; polyester polyol for polyurethane coatings | (G) Ester polyol, fatty acid ester
P-10-0514 | 08/19/10 | 11/16/10 | Emery Oleochemicals LLC | (S) Polyester polyol for polyurethane ridged foam; polyester polyol for polyurethane flexible foam; polyester polyol for polyurethane coatings | (G) Ester polyol, fatty acid ester
P-10-0515 | 08/18/10 | 11/15/10 | CBI | (S) Binder for paints and coatings | (S) 2-propenoic acid, 2-methyl-, methyl ester, polymer with butyl 2-propenoate and N-(1,1-dimethyl-3-oxobutyl)-2-propenamide
P-10-0516 | 08/17/10 | 11/14/10 | Cytec Industries Inc. | (G) Coatings resin | (G) Alkanoic acid ester, polymers with alkanolamine and substituted acrylate-blocked substituted polyalkylene-urethane polymer
P-10-0517 | 08/19/10 | 11/16/10 | Dow Chemical Company | (S) Surfactant for architectural coatings; surfactant used in industrial metal cleaning solutions | (S) Oxirane, 2-ethyl-, polymer with oxirane, mono-C12-14-sec-alkyl ethers
P-10-0518 | 08/19/10 | 11/16/10 | Dow Chemical Company | (S) Surfactant for architectural coatings; surfactant used in industrial metal cleaning solutions | (S) Oxirane, 2-ethyl-, polymer with oxirane, mono-C11-15-sec-alkyl ethers
P-10-0519 | 08/20/10 | 11/17/10 | Coim USA, Inc. | (S) Resin used to make foam insulation | (S) Hexanedioic acid, polymer with 2,2-dimethyl-1,3-propanediol, 1,2-ethanediol and 1,6-hexanediol
P-10-0520 | 08/20/10 | 11/17/10 | Cognis Corporation | (S) Agricultural pesticide inert adjuvant (to be FIFRA approved) | (S) 1,2,3-propanetriol, hydrogen sulfate, ammonium salt
P-10-0521 | 08/23/10 | 11/20/10 | Wacker Chemical Corporation | (G) Contained use (chemical intermediate, consumed during polymer grafting) | (S) Siloxanes and silicones, di-me, polymers with me ph silsesquioxanes, methoxy-terminated
P-10-0522 | 08/23/10 | 11/20/10 | DIC International (USA) LLC | (G) Adhesive for plastic films | (G) Polymer with aromatic polycarboxylic acid, aliphatic polycarboxylic acid and aliphatic polyol
P-10-0523 | 08/23/10 | 11/20/10 | 3M Company | (S) Oil-and water-repellent agent for hard surfaces | (G) Fluorochemical acrylate copolymer
P-10-0524 | 08/24/10 | 11/21/10 | Dow Chemical Company | (G) Component of polyurethane coating | (G) Brominated polyurethane prepolymer of MDI
P-10-0525 | 08/24/10 | 11/21/10 | Dow Chemical Company | (G) Component of polyurethane coating | (G) Brominated polyurethane prepolymer of MDI
P-10-0526 | 08/25/10 | 11/22/10 | Anderson Development Company | (S) Powder coating resin | (G) Methacrylate co-polymer
P-10-0527 | 08/25/10 | 11/22/10 | Anderson Development Company | (S) Powder coating resin | (G) Methacrylate co-polymer
P-10-0528 | 08/25/10 | 11/22/10 | CBI | (G) Coatings | (G) Urethane acrylate
P-10-0529 | 08/26/10 | 11/23/10 | Rhodia, Inc. | (G) Oil field additive | (G) Copolymer containing phosphonic, sulfonic and carboxylic acid groups
P-10-0530 | 08/27/10 | 11/24/10 | CBI | (G) Polymer admixture for cements | (G) Polycarboxylate polymer with alkenyloxyalkylol modified poly(oxyakylenediyl), sodium salt
P-10-0531 | 08/27/10 | 11/24/10 | CBI | (G) Unsaturated polyester resin | (G) Unsaturated polyester resin
P-10-0532 | 08/27/10 | 11/24/10 | C. l. Hauthaway and Sons Inc. | (S) Wood primer / seal coating- tannin stain blocker | (G) Polyester based aliphatic cationic waterbased polyurethane
P-10-0533 | 08/30/10 | 11/27/10 | CBI | (G) Interior and exterior coating additive | (G) Styrene / acrylate copolymer
P-10-0534 | 08/31/10 | 11/28/10 | CBI | (S) Coating ingredient | (G) Substituted poly[oxy(methyl ethanediyl)], substituted[[[[trimethyl[[[[(oxopropenlyl)oxy]ethoxy]carbonyl]amino]cyclohexyl]methyl]amino]carbonyl[[[[[trimethyl[[[[(oxopropen1yl)oxy]ethoxy]amino]cyclohexyl]methyl]amino]carbonyl]oxy-
P-10-0535 | 08/30/10 | 11/27/10 | CBI | (S) Textile coating | (G) Propanoic acid, oxyalkylpropanoic acid, polymer with hydrazine, -hydro--hydroxypoly[oxy(methyl-1,2-ethanediyl)] and 5-isocyanato-1-(isocyanatomethyl)-alkylcyclohexane, compound with N,N-diethylethanamine
P-10-0538 | 08/31/10 | 11/28/10 | CBI | (S) Textile coating | (G) Propanoic acid, oxyalkylpropanoic acid, polymer with hydrazine, -hydro--hydroxypoly[oxy(methyl-1,2-ethanediyl)] and 5-isocyanato-1-(isocyanatomethyl)-alkylcyclohexane, compound with 2-(dimethylamino)ethanol
P-10-0539 | 08/31/10 | 11/28/10 | CBI | (G) Cathode in batteries | (G) Metal oxide
P-10-0540 | 08/31/10 | 11/28/10 | CBI | (S) Textile coating | (G) Propanoic acid, oxyalkylpropanoic acid, polymer with hydrazine, -hydro--hydroxypoly[oxy(methyl-1,2-ethanediyl)] and 5-isocyanato-1-(isocyanatomethyl)-alkylcyclohexane, compound with 2-(dimethylamino)ethanol

In Table II of this unit, EPA provides the following information (to the extent that such information is not claimed as CBI) on the TMEs received:

II. 1 Test Marketing Exemption Notices Received From: 07/30/10 to 08/31/10
Case No. | Received Date | Projected Notice End Date | Manufacturer/Importer | Use | Chemical
T-10-0006 | 08/17/10 | 09/30/10 | Cytec Industries Inc. | (G) Coatings resin | (G) Alkanoic acid ester, polymers with alkanolamine and substituted acrylate-blocked substituted polyalkylene-urethane polymer

In Table III of this unit, EPA provides the following information (to the extent that such information is not claimed as CBI) on the Notices of Commencement to manufacture received:

III. 31 Notices of Commencement From: 7/30/10 to 8/31/10
Case No. | Received Date | Commencement Notice End Date | Chemical
P-08-0224 | 08/04/10 | 07/30/10 | (G) Fluoroalkyl acrylate copolymer
P-09-0147 | 08/04/10 | 07/08/10 | (S) Formaldehyde, polymers with acetone-phenol reaction products and phenol, potassium sodium salts
P-09-0293 | 08/20/10 | 07/29/10 | (G) Phosphoric acid, mixed esters with partially fluorinated alcohol, ammonium salts
P-09-0317 | 08/11/10 | 07/12/10 | (S) Copper (2+), bis[N-[amino(imino-KN)methyl]urea-KO]-, nitrate (1:2)
P-09-0334 | 08/09/10 | 07/30/10 | (S) 8AH-2,4A-methanonaphthalene-8A-ol, octahydro-1,1,5,5-tetramethyl-
P-09-0370 | 07/30/10 | 06/29/10 | (G) Polyester modified MDI prepolymer
P-09-0527 | 08/26/10 | 05/27/10 | (G) Fatty acids, polymer with an aromatic diol, C18-unsaturated fatty acids dimers, epichlorohydrin and triethylenetetramine
P-09-0556 | 08/17/10 | 07/26/10 | (G) Modified ketal
P-09-0614 | 08/13/10 | 08/02/10 | (G) 2-propenoic acid, 2-methyl-, C12-15-branched and linear alkyl esters, polymers with alkyl methacrylates alkyl peroxide-initiated
P-09-0645 | 08/27/10 | 08/20/10 | (G) Substituted alkyl phosphate ester, ammonium salt
P-10-0007 | 08/23/10 | 08/02/10 | (G) Distillates (petroleum), light thermal cracked, reaction products with phenol, carboxylated, metal salts
P-10-0023 | 08/23/10 | 08/06/10 | (G) Benzenesulfonic acid, 4-amino, azo pigment
P-10-0112 | 08/24/10 | 08/05/10 | (G) Benzene dicarboxylic acid, polyester with glycol and polyethylene glycol
P-10-0138 | 07/30/10 | 07/15/10 | (G) Long chain alkylacrylate, homopolymers
P-10-0139 | 07/30/10 | 07/15/10 | (G) Long chain alkylacrylate, homopolymers
P-10-0144 | 08/17/10 | 07/16/10 | (G) Methyl-phenyl silicone resin with alkoxy groups
P-10-0201 | 08/09/10 | 07/28/10 | (G) Polyether polyurethane
P-10-0205 | 08/11/10 | 07/21/10 | (G) Poly(aryl ether) polymers
P-10-0228 | 08/11/10 | 07/15/10 | (G) Benzoic acid derivative
P-10-0234 | 08/09/10 | 07/12/10 | (S) 2-cyclopentene-1-acetic acid, 2-ethylbutyl ester
P-10-0239 | 08/20/10 | 08/12/10 | (S) 1,2,3-benzothiadiazole-7-carboxylic acid
P-10-0258 | 08/30/10 | 08/16/10 | (G) Sulfonated heteropolycycle
P-10-0259 | 08/30/10 | 08/16/10 | (G) Sulfonated heteropolycycle
P-10-0285 | 08/16/10 | 08/06/10 | (S) Benzoic acid, 3-amino-2-mercapto-
P-10-0312 | 08/18/10 | 08/05/10 | (S) 2,5-furandione, telomer with ethenylbenzene and (1-methylethyl)benzenem imides with polyethylene-polypropylene glycol 2-aminopropyl me ether
P-10-0323 | 08/23/10 | 08/06/10 | (G) Alkyl methacrylate polymer with branched benzene, alkyl acrylate, hydroxyalkyl methacrylate, methacrylic acid and substituted methacrylate, alkaline metal salt
P-10-0345 | 08/13/10 | 07/21/10 | (G) Hexanoic acid, 6-[[2-[[5-[[2,7-dihydro-3-methyl-2,7-dioxo-1-(3-sulfobenzoyl)-heteropolycycle-6-yl]amino]-2,4-disulfophenyl]amino]-2-oxoethyl]amino]-, ammonium sodium salt (1:?:?)
P-10-0346 | 08/13/10 | 07/21/10 | (G) Copper, phthalic anhydride-2,3-pyridinedicarboxylic acid-urea reaction products complexes, aminosulfonylsulfo[[2-[[4-[(2-sulfoethyl)amino]-6-[(4-sulfophenyl)amino]-monoheterocycle-2-yl]amino]ethyl]amino]sulfonyl derivates, sodium salts
P-10-0351 | 08/27/10 | 08/16/10 | (G) Modified acrylonitrile, butadiene polymer, hydrogenated
P-10-0352 | 08/23/10 | 08/02/10 | (G) Benzene, isocyanatoalkyl-, polymer with diisocyanatoalkane, polyalkylene glycol alkyl ether-blocked
P-10-0385 | 08/30/10 | 08/13/10 | (G) Phosphonic acid, P,P-[[(4-substitutedl)amino]methylene]bis-,potassium salt (1:1)

List of Subjects

Environmental Protection, Chemicals, Premanufacturer Notices.

Dated: September 16, 2010.
Chandler Sirmons,
Acting Director, Information Management Division, Office of Pollution Prevention and Toxics.

[FR Doc. 2010-23718 Filed 9-21-10; 8:45 am]

BILLING CODE 6560-50-S